DEPARTMENT OF DEFENSE

Office of the Secretary

[Docket ID DoD-2012-OS-0129]

Manual for Courts-Martial; Proposed Amendments; Correction

AGENCY: Joint Service Committee on Military Justice (JSC), DoD.

ACTION: Notice of Proposed Amendments to the Manual for Courts-Martial, United States (2012 ed.) and Notice of Public Meeting; correction.

SUMMARY: On October 23, 2012 (77 FR 64854-64887), the Department of Defense published proposed amendments to the Manual for Courts-Martial and notice of a public meeting. After publication of the notice in the Federal Register, DoD discovered that the public meeting address in the DATES section was incorrect. This notice corrects that error. On page 64854, in the first column, in the DATES section, the text is corrected to read as follows:

DATES: Comments on the proposed changes must be received by December 24, 2012. A public meeting for comments will be held on December 11, 2012, at 10 a.m. in the United States Court of Appeals for the Armed Forces, 450 E Street NW., Washington DC 20442-0001. This correction is effective November 1, 2012.

FOR FURTHER INFORMATION CONTACT: LTC Christopher Kennebeck, Chief, Policy Branch, Criminal Law Division, OTJAG, Room 3B548, Washington, DC 20301, 571-256-8136, email usarmy.pentagon.hqda-otjag.mbx.jsc-public-comments@mail.mil.

Dated: October 26, 2012.
Aaron Siegel,
Alternate OSD Federal Register Liaison Officer, Department of Defense.

[FR Doc. 2012-26827 Filed 10-31-12; 8:45 am]

BILLING CODE 5001-06-P